DEPARTMENT OF COMMERCE

National Oceanic and Atmospheric Administration

RIN 0648-XL56

New England Fishery Management Council; Public Meeting

AGENCY: National Marine Fisheries Service (NMFS), National Oceanic and Atmospheric Administration (NOAA), Commerce.

ACTION: Notice of public meetings.

SUMMARY: The New England Fishery Management Council (Council) will hold a three-day Council meeting on November 18-20, 2008, to consider actions affecting New England fisheries in the exclusive economic zone (EEZ).

DATES: The meeting will be held on Tuesday, November 18, 2008 beginning at 9 a.m., and Wednesday, November 19, 2008 beginning at 8:30 a.m. and Thursday, November 20, 2008 beginning at 8 a.m.

ADDRESSES: The meeting will be held at the Sheraton Ferncroft Hotel, 50 Ferncroft Road, Danvers, MA 01923; telephone: (978) 777-2500; fax: (978) 750-7959.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION:

Tuesday, November 18, 2008

Following introductions and any announcements, the Council will receive a series of brief reports from the Council Chairman and Executive Director, the NOAA Fisheries Northeast Regional Administrator, Northeast Fisheries Science Center and Mid-Atlantic Fishery Management Council liaisons, NOAA General Counsel, NOAA Enforcement and representatives of the U.S. Coast Guard and the Atlantic States Marine Fisheries Commission. Following these reports, there will be a review of proposals contained in Draft Amendment 1 to the Consolidated Highly Migratory Fishery Management Plan addressing Essential Fish Habitat. Prior to a lunch break the Council will hold an open comment period during which any interested party may address the Council about fishery management related issues that are otherwise not listed on the agenda. Following the break, the Council's Research Steering Committee will report on its review of the NEFMC's five-year research priorities, evaluations of several final cooperative research project final reports and possible revisions to the evaluation criteria used to review those reports. The Scientific and Statistical Committee will provide advice to the Council on Amendment 3 to the Northeast Skate Complex Fishery Management Plan (FMP), its recommendations on the NEFMC's five-year research priorities and its comments on the Advanced Notice of Proposed Rulemaking issued by NMFS concerning National Standard 2. The Council will adjourn for the day following a report from the Joint Mid-Atlantic/New England Council Spiny Dogfish Committee. This will be the final meeting to consider Framework Adjustment 2 to the Dogfish FMP, an action that would allow consideration of alternatives to adjust stock status determination criteria. The Council also will consider dogfish management measures for the 2009/10 fishing years and possibly thereafter.

Wednesday, November 19, 2008

The Skate Committee will ask the Council to approve final measures for inclusion in Skate Amendment 3 which will implement annual catch limits and accountability measures as well as an annual review and biennial specification process. The Groundfish Committee will ask for approval of management measures for further development and analysis as part of Amendment 16 to the Northeast Multispecies FMP. This agenda item will continue until the meeting adjourns for the day.

Thursday, November 20, 2008

The Council will address and prioritize management actions for the remainder of 2008 and 2009. This process will be followed by an update from the Habitat Committee on Essential Fish Habitat Omnibus 2. Information provided will include an overview of the vulnerability assessment concerning the adverse impacts of fishing, selected preliminary results, a timeline and discussion of future work. This report will be followed by a presentation on ecosystem considerations relative to the development of fishery management plans and a report on scallop vessel incidental catch of yellowtail flounder. The Scallop Committee will then discuss and approve a response to the most recent NMFS Biological Opinion for the Scallop FMP concerning sea turtle interactions and review a list of alternatives under consideration for Amendment 15 to the Scallop FMP. The Council may narrow the range of measures for inclusion in the action. Finally, the Council will address any other outstanding business prior to adjournment until its next meeting.

Although other non-emergency issues not contained in this agenda may come before this Council for discussion, those issues may not be the subjects of formal action during these meetings. Council action will be restricted to those issues specifically listed in this notice and any issues arising after publication of this notice that require emergency action under section 305(c) of the Magnuson-Stevens Act, provided that the public has been notified of the Council's intent to take final action to address the emergency.

Special Accommodations

These meetings are physically accessible to people with disabilities. Requests for sign language interpretation or other auxiliary aids should be directed to Paul J. Howard (see ADDRESSES) at least 5 days prior to the meeting date.

Dated: October 28, 2008.
Tracey L. Thompson,
Acting Director, Office of Sustainable Fisheries, National Marine Fisheries Service
.

[FR Doc. E8-25996 Filed 10-30-08; 8:45 am]

BILLING CODE 3510-22-S